DEPARTMENT OF DEFENSE

Office of the Secretary

Uninformed Services University of the Health Sciences Meeting Notice

Agency Holding the Meeting: Uniformed Services University of Health Sciences.

Time and Date: 8 a.m. to 4 p.m., February 8, 2005.

Place: Uninformed Services University of the Health Sciences, Board of Regents Conference Room (D3001), 4301 Jones Bridge Road, Bethesda, MD 20814-4799.

Status: Open—under “Government in the Sunshine Act” (5 U.S.C. 552b(e)(3)).

Matters To Be Considered:

8 a.m. Meeting—Board of Regents

(1) Approval of Minutes—November 9, 2004

(2) Faculty Matters

(3) Departmental Reports

(4) Financial Report

(5) Report—Interim President, USUHS

(6) Report—Dean, School of Medicine

(7) Report—Dean, Graduate School of Nursing

(8) Approval of Degrees—School of Medicine; Graduate School of Nursing

(9) Comments—Chairman, Board of Regents

(10) New Business

Contact Person for More Information: Barry W. Wolcott, M.D., Executive Secretary, Board of Regents, (301) 295-3681.

Dated: January 4, 2005.
L.M. Bynum,
Alternate OSD Federal Register Liaison Officer, Department of Defense.

[FR Doc. 05-458 Filed 1-5-04; 8:45 am]

BILLING CODE 5001-06-M